DEPARTMENT OF JUSTICE

Federal Bureau of Investigation

Meeting of the CJIS Advisory Policy Board

AGENCY: Federal Bureau of Investigation (FBI), Justice.

ACTION: Meeting notice.

SUMMARY: The purpose of this notice is to announce the meeting of the Criminal Justice Information Services (CJIS) Advisory Policy Board. The CJIS Advisory Policy Board is responsible for reviewing policy issues, uniform crime reports, and appropriate technical and operational issues related to the programs administered by the FBI's CJIS Division and thereafter, make appropriate recommendations to the FBI Director. The topics to be discussed will include Proposed CJIS Wide Area Network (WAN) Migration to the Justice Consolidation Network, the Revised National Crime Information Center (NCIC) Sanctions Process, and Secondary Dissemination of NCIC Wanted Person File Data. Discussion will also include the status on the National Crime Prevention and Privacy Compact, Update on DOJ Global and Information Sharing, and other issues related to the Integrated Automated Fingerprint Identification System, NCIC, Law Enforcement Online, National Instant Criminal Background Check System and Uniform Crime Reporting Programs.

The meeting will be open to the public on a first-come, first-seated basis. Any member of the public wishing to file a written statement concerning the FBI's CJIS Division programs or wishing to address this session should notify the Designated Federal Employee, Mr. Roy Weise, Programs Development Section (304) 625-2730, at least 24 hours prior to the start of the session.

The notification should contain the requestor's name, corporate designation, and consumer affiliation or government designation along with a short statement describing the topic to be addressed and the time needed for the presentation. A requestor will ordinarily be allowed not more than 15 minutes to present a topic.

DATES AND TIME: The Advisory Policy Board will meet in open session from 9 a.m. until 5 p.m. on June 5-6, 2001.

ADDRESSES: The meeting will take place at the Opryland Hotel, 2802 Opryland Drive, Nashville, Tennessee, telephone (615) 889-1000.

FOR FURTHER INFORMATION CONTACT: Inquires may be addressed to Ms. Lori A. Kemp, Management Analyst, Advisory Groups Management Unit, Programs Development Section, FBI CJIS Division, Module C3, 1000 Custer Hollow Road, Clarksburg, West Virginia 26306-0149, telephone (304) 625-2619, facsimile (304) 625-5090.

Dated: April 25, 2001.
Roy G. Weise,
Designated Federal Employee, Programs Development Section, Criminal Justice Information Service Division, Federal Bureau of Investigation.

[FR Doc. 01-11129 Filed 5-2-01; 8:45 am]

BILLING CODE 4410-02-M